DEPARTMENT OF THE DEFENSE

Department of the Army, Corps of Engineers

Withdrawal of the Notice of Intent To Prepare a Joint Environmental Impact Statement/Environmental Impact Report for the Dredged Material Management Plan Feasibility Study, Los Angeles County, CA

AGENCY: Army Corps of Engineers, Department of the Army, DoD.

ACTION: Notice of intent; withdrawal.

SUMMARY: The U.S. Army Corps of Engineers, Los Angeles District, Planning Division is notifying interested parties that it has withdrawn the Notice of Intent (NOI) to develop a Joint Environmental Impact Statement/Environmental Impact Report for the Dredged Material Management Plan Feasibility Study. The original NOI to prepare a Joint EIS/EIR was published in the Federal Register on February 13, 2003. The proposed Dredged Material Management Plan Feasibility Study was converted into a Dredged Material Management Framework on August 24, 2009. A Final EIS/EIR was never completed.

DATES: The notice of intent to prepare an EIS published in the Federal Register on February 13, 2003 (68 FR 7353), is withdrawn as of April 19, 2024.

ADDRESSES: U.S. Army Corps of Engineers, Los Angeles District, Environmental Resources Branch, (CESPL-PDR), 915 Wilshire Blvd., Suite 1109, Los Angeles, CA 90017-3409.

FOR FURTHER INFORMATION CONTACT: Questions regarding the withdrawal of this NOI should be addressed to Mr. Larry Smith, 213-452-3876, or .army.mil.

SUPPLEMENTARY INFORMATION: The Draft EIS/EIR was distributed for public and agency review on February 10, 2009. The Dredged Material Management Framework was completed as an internal document in November 2022 after it was determined that the Study did not meet the programmatic definition of a Dredged Material Management Plan.

David R. Hibner,
Programs Director, South Pacific Division.

[FR Doc. 2024-08379 Filed 4-18-24; 8:45 am]

BILLING CODE 3720-58-P